DEPARTMENT OF ENERGY

Federal Energy Regulatory Commission

Combined Notice of Filings

Take notice that the Commission has received the following Natural Gas Pipeline Rate and Refund Report filings:

Filings Instituting Proceedings

Docket Numbers: RP12-140-000.

Applicants: Trailblazer Pipeline Company LLC.

Description: Amended Negotiated Rate Filing—Indicated Shippers to be effective 9/1/2011.

Filed Date: 11/09/2011.

Accession Number: 20111109-5058.

Comment Date: 5 p.m. ET on 11/21/2011.

Docket Numbers: RP12-141-000.

Applicants: Maritimes & Northeast Pipeline, L.L.C.

Description: MN365 Enhancement Service to be effective 3/1/2012.

Filed Date: 11/09/2011.

Accession Number: 20111109-5113.

Comment Date: 5 p.m. ET on 11/21/2011.

Docket Numbers: RP12-142-000.

Applicants: CenterPoint Energy Gas Transmission Company, LLC

Description: Submits tariff filing per 154.204: Housekeeping Filing—Nov 2011 to be effective 1/1/2012.

Filed Date: 11/10/2011.

Accession Number: 20111110-5043.

Comment Date: 5 p.m. ET on 11/22/2011.

Docket Numbers: CP07-44-000, CP07-45-000, CP07-46-000, and

CP07-47-000.

Applicants: Southeast Supply Headers, LLC.

Description: Cost and Revenue Study.

Filed Date: 09/06/2011.

Accession Number: 20110906-5084.

Comment Date: 5 p.m. ET on 11/18/2011.

Docket Numbers: CP12-14-000.

Applicants: Transcontinental Gas Pipe Line Company, LLC.

Description: Application for an order permitting the abandonment Rate Schedules X-122, X-143, X-224, and X-227.

Filed Date: 11/03/2011.

Accession Number: 20111103-5159.

Comment Date: 5 p.m. ET on 11/18/2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-141-001.

Applicants: Maritimes & Northeast Pipeline, L.L.C.

Description: Amendment to RP12-141-000 Filing to be effective 3/1/2012.

Filed Date: 11/09/2011.

Accession Number: 20111109-5197.

Comment Date: 5 p.m. ET on 11/21/2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 10, 2011.
Nathaniel J. Davis, Sr.
Deputy Secretary

[FR Doc. 2011-29924 Filed 11-18-11; 8:45 am]

BILLING CODE 6717-01-P